DEPARTMENT OF STATE

[Public Notice: 11570]

Notice of Shipping Coordinating Committee Meeting in Preparation for International Maritime Organization MEPC 77 Meeting

The Department of State will conduct a public meeting of the Shipping Coordinating Committee at 10:00 a.m. on Wednesday, November 17, 2021, by way of teleconference. Members of the public may participate up to the capacity of the teleconference phone line, which can handle 500 participants. To RSVP, participants should contact the meeting coordinator, LCDR Jessica Anderson, by email at jessica.p.anderson@uscg.mil. To access the teleconference line participants should call (202) 475-4000 and use Participant Code: 138 541 34#.

The primary purpose of the meeting is to prepare for the seventy seventh session of the International Maritime Organization's (IMO) Marine Environment Protection Committee to be held virtually from Monday, November 22, 2021 to Friday, November 26, 2021. The agenda items to be considered at the advisory committee meeting mirror those to be considered at MEPC 77, and include:

—Adoption of the agenda

—Decisions of other bodies

—Identification and protection of Special Areas, ECAs and PSSAs

—Harmful aquatic organisms in ballast water

—Air pollution prevention

—Energy efficiency of ships

—Reduction of GHG emissions from ships

—Follow-up work emanating from the Action Plan to address marine plastic litter from ships

—Pollution prevention and response

—Reports of other sub-committees

—Work programme of the Committee and subsidiary bodies

—Application of the Committee's method of work

—Any other business

—Consideration of the report of the Committee

Please note: the IMO may, on short notice, adjust the MEPC 77 agenda to accommodate the constraints associated with the virtual meeting format. Any changes to the agenda will be reported to those who RSVP and those in attendance at the meeting.

Those who plan to participate may contact the meeting coordinator, LCDR Jessica Anderson, by email at Jessica.P.Anderson@uscg.mil, or in writing at 2703 Martin Luther King Jr. Ave. SE, Stop 7509, Washington, DC 20593-7509. Members of the public needing reasonable accommodation should advise LCDR Jessica Anderson not later than November 15, 2021. Requests made after that date will be considered, but might not be possible to fulfill.

Additional information regarding this and other IMO public meetings may be found at: https://www.dco.uscg.mil/IMO.

(Authority: 22 U.S.C. 2656 and 5 U.S.C. 552)

Emily A. Rose,
Executive Secretary, Shipping Coordinating Committee, Office of Ocean and Polar Affairs, Department of State.

[FR Doc. 2021-23290 Filed 10-25-21; 8:45 am]

BILLING CODE 4710-09-P